DEPARTMENT OF THE TREASURY

Office of Foreign Assets Control

Publication of Revised Guidance on Entities Owned by Persons Whose Property and Interests in Property Are Blocked

AGENCY: Office of Foreign Assets Control, Treasury.

ACTION: Notice, publication of revised guidance.

SUMMARY: The Department of the Treasury's Office of Foreign Assets Control (OFAC) is publishing Revised Guidance on Entities Owned by Persons Whose Property and Interests in Property are Blocked.

DATES: Effective Date: August 14, 2014.

FOR FURTHER INFORMATION CONTACT: Assistant Director for Licensing, tel.: 202-622-2480, Assistant Director for Policy, tel.: 202-622-2402, Assistant Director for Regulatory Affairs, tel.: 202-622-4855, Assistant Director for Sanctions Compliance & Evaluation, tel.: 202-622-2490, Office of Foreign Assets Control, or Chief Counsel (Foreign Assets Control), tel.: 202-622-2410, Office of the General Counsel, Department of the Treasury (not toll free numbers).

SUPPLEMENTARY INFORMATION:

Electronic and Facsimile Availability

The text of the Revised Guidance on Entities Owned by Persons Whose Property and Interests in Property are Blocked and additional information concerning OFAC are available from OFAC's Web site (www.treasury.gov/ofac). Certain general information pertaining to OFAC's sanctions programs also is available via facsimile through a 24-hour fax-on-demand service, tel.: 202/622-0077.

Background

OFAC today is publishing Revised Guidance on Entities Owned by Persons Whose Property and Interests in Property are Blocked. This revised guidance replaces the Guidance on Entities Owned by Persons Whose Property and Interests in Property are Blocked previously posted on OFAC's Web site on February 14, 2008.

Guidance

U.S. Department of the Treasury

Revised Guidance on Entities Owned by Persons Whose Property and Interests in Property Are Blocked

This guidance responds to inquiries received by the Department of the Treasury's Office of Foreign Assets Control (OFAC) relating to the status of entities owned by individuals or entities designated under Executive orders and regulations administered by OFAC. This document sets forth new guidance with respect to entities owned 50 percent or more in the aggregate by more than one blocked person.

Property blocked pursuant to an Executive order or regulations administered by OFAC is broadly defined to include any property or interest in property, tangible or intangible, including present, future or contingent interests. A property interest subject to blocking includes interests of any nature whatsoever, direct or indirect.

Persons whose property and interests in property are blocked pursuant to an Executive order or regulations administered by OFAC (blocked persons) are considered to have an interest in all property and interests in property of an entity in which such blocked persons own, whether individually or in the aggregate, directly or indirectly, a 50 percent or greater interest. Consequently, any entity owned in the aggregate, directly or indirectly, 50 percent or more by one or more blocked persons is itself considered to be a blocked person. The property and interests in property of such an entity are blocked regardless of whether the entity itself is listed in the annex to an Executive order or otherwise placed on OFAC's list of Specially Designated Nationals (“SDNs”). Accordingly, a U.S. person generally may not engage in any transactions with such an entity, unless authorized by OFAC. In certain OFAC sanctions programs (e.g., Cuba and Sudan), there is a broader category of entities whose property and interests in property are blocked based on, for example, ownership or control.

U.S. persons are advised to act with caution when considering a transaction with a non-blocked entity in which one or more blocked persons has a significant ownership interest that is less than 50 percent or which one or more blocked persons may control by means other than a majority ownership interest. Such entities may be the subject of future designation or enforcement action by OFAC. Furthermore, a U.S. person may not procure goods, services, or technology from, or engage in transactions with, a blocked person directly or indirectly (including through a third-party intermediary).

OFAC will incorporate this guidance as it issues regulations implementing new sanctions programs. In addition, OFAC expects to amend regulations implementing existing sanctions programs to reflect this guidance.

Issued: August 14, 2014.

Dated: August 7, 2014.
Adam J. Szubin,
Director, Office of Foreign Assets Control.

[FR Doc. 2014-19252 Filed 8-13-14; 8:45 am]

BILLING CODE 4810-AL-P